DEPARTMENT OF AGRICULTURE

Animal and Plant Health Inspection Service

[Docket No. APHIS-2024-0008]

General Conference Committee of the National Poultry Improvement Plan and 46th Biennial Conference

AGENCY: Animal and Plant Health Inspection Service, USDA.

ACTION: Notice of meeting.

SUMMARY: We are giving notice of a meeting of the General Conference Committee (GCC or the Committee) of the National Poultry Improvement Plan (NPIP) and the NPIP's 46th Biennial Conference.

DATES: The General Conference Committee meeting will be held on August 27, 2024, from 1:30 p.m. to 6 p.m. The General Session of the Biennial Conference will begin on August 28, 2024, at 7:30 a.m. and end no later than August 30, 2024, at 2:30 p.m.

ADDRESSES: The meeting and conference will be held at the Omni Providence Hotel, One West Exchange Street, Providence, RI.

FOR FURTHER INFORMATION CONTACT: Dr. Elena Behnke, Senior Coordinator, National Poultry Improvement Plan, VS, APHIS, USDA, 1506 Klondike Road, Suite 301, Conyers, GA 30094; (770) 922-3496.

SUPPLEMENTARY INFORMATION: The General Conference Committee (the Committee) of the National Poultry Improvement Plan (NPIP), representing cooperating State agencies and poultry industry members, serves an essential function by acting as liaison between the poultry industry and the Department in matters pertaining to poultry health.

Topics for discussion at the upcoming meeting include:

1. New diagnostic tests seeking NPIP approval.

2. Salmonella update.

3. National Veterinary Services Laboratories avian influenza and Newcastle disease virus update.

4. Mycoplasma update.

The meeting will be open to the public; however, public participation in discussions during the sessions will only be allowed if time permits. Written statements may be filed at the meeting or filed with the Committee before or after the meeting by sending them to the person listed under FOR FURTHER INFORMATION CONTACT. Please refer to Docket No. APHIS-2024-0008 when submitting your statements.

Reasonable Accommodations

If needed, please request reasonable accommodations no later than July 29, 2024, by contacting the person listed under FOR FURTHER INFORMATION CONTACT. Requests made after that date may be considered, but it may not be possible to fulfill them.

This notice of meeting is given pursuant to section 10 of the Federal Advisory Committee Act (5 U.S.C. 10).

U.S. Department of Agriculture (USDA) programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: February 27, 2024.
Egypt Simon,
Acting USDA Committee Management Officer.

[FR Doc. 2024-04515 Filed 3-1-24; 8:45 am]

BILLING CODE 3410-34-P